Title 3—

The President

Executive Order 13515 of October 14, 2009

Increasing Participation of Asian Americans and Pacific Islanders in Federal Programs

By the authority vested in me as President by the Constitution and the laws of the United States of America, it is hereby ordered as follows:

Section 1. Policy. The more than 16 million Asian Americans and Pacific Islanders (AAPIs) across our country have helped build a strong and vibrant America. The AAPI communities represent many ethnicities and languages that span generations, and their shared achievements are an important part of the American experience. They have started businesses and generated jobs, including founding some of our Nation's most successful and innovative enterprises. The AAPI communities have made important contributions to science and technology, culture and the arts, and the professions, including business, law, medicine, education, and politics.

While we acknowledge the many contributions of the AAPI communities to our Nation, we also recognize the challenges still faced by many AAPIs. Of the more than a million AAPI-owned businesses, many firms are small sole-proprietorships that continue to need assistance to access available resources such as business development counseling and small business loans. The AAPI community also continues to face barriers to employment and workplace advancement. Specific challenges experienced by AAPI subgroups include lower college-enrollment rates by Pacific Islanders than other ethnic groups and high poverty rates among Hmong Americans, Cambodian Americans, Malaysian Americans, and other individual AAPI communities. Additionally, one in five non-elderly AAPIs lacks health insurance.

The purpose of this order is to establish a President's Advisory Commission on Asian Americans and Pacific Islanders and a White House Initiative on Asian Americans and Pacific Islanders. Each will work to improve the quality of life and opportunities for Asian Americans and Pacific Islanders through increased access to, and participation in, Federal programs in which they may be underserved. In addition, each will work to advance relevant evidence-based research, data collection, and analysis for AAPI populations and subpopulations.

Sec. 2. President's Advisory Commission on Asian Americans and Pacific Islanders. There is established in the Department of Education the President's Advisory Commission on Asian Americans and Pacific Islanders (Commission).

(a) Mission and Function of the Commission. The Commission shall provide advice to the President, through the Secretaries of Education and Commerce, as Co-Chairs of the Initiative described in section 3 of this order, on: (i) the development, monitoring, and coordination of executive branch efforts to improve the quality of life of AAPIs through increased participation in Federal programs in which such persons may be underserved; (ii) the compilation of research and data related to AAPI populations and subpopulations; (iii) the development, monitoring, and coordination of Federal efforts to improve the economic and community development of AAPI businesses; and (iv) strategies to increase public and private-sector collaboration, and community involvement in improving the health, education, environment, and well-being of AAPIs.

(b) Membership of the Commission. The Commission shall consist of not more than 20 members appointed by the President. The Commission shall include members who: (i) have a history of involvement with the AAPI communities; (ii) are from the fields of education, commerce, business, health, human services, housing, environment, arts, agriculture, labor and employment, transportation, justice, veterans affairs, and economic and community development; (iii) are from civic associations representing one or more of the diverse AAPI communities; or (iv) have such other experience as the President deems appropriate. The President shall designate one member of the Commission to serve as Chair, who shall convene regular meetings of the Commission, determine its agenda, and direct its work.

(c) Administration of the Commission. The Secretary of Education, in consultation with the Secretary of Commerce, shall designate an Executive Director for the Commission. The Department of Education shall provide funding and administrative support for the Commission to the extent permitted by law and within existing appropriations. Members of the Commission shall serve without compensation, but shall be allowed travel expenses, including per diem in lieu of subsistence, as authorized by law for persons serving intermittently in the Government service (5 U.S.C. 5701-5707). Insofar as the Federal Advisory Committee Act, as amended (5 U.S.C. App.) (the “Act”), may apply to the administration of the Commission, any functions of the President under the Act, except that of reporting to the Congress, shall be performed by the Secretary of Education, in accordance with the guidelines issued by the Administrator of General Services.

(d) Termination Date. The Commission shall terminate 2 years from the date of this order, unless renewed by the President.

Sec. 3. White House Initiative on Asian Americans and Pacific Islanders. There is established the White House Initiative on Asian Americans and Pacific Islanders (Initiative), a Federal interagency working group whose members shall be selected by their respective agencies. The Secretary of Commerce and the Secretary of Education shall serve as the Co-Chairs of the Initiative. The Executive Director of the Commission established in section 2 of this order shall also serve as the Executive Director of the Initiative and shall report to the Secretaries on Initiative matters.

(a) Mission and Function of the Initiative. The Initiative shall work to improve the quality of life of AAPIs through increased participation in Federal programs in which AAPIs may be underserved. The Initiative shall advise the Co-Chairs on the implementation and coordination of Federal programs as they relate to AAPIs across executive departments and agencies.

(b) Membership of the Initiative. In addition to the Co-Chairs, the Initiative shall consist of senior officials from the following executive branch departments, agencies, and offices:

(i) the Department of State;

(ii) the Department of the Treasury;

(iii) the Department of Defense;

(iv) the Department of Justice;

(v) the Department of the Interior;

(vi) the Department of Agriculture;

(vii) the Department of Labor;

(viii) the Department of Housing and Urban Development;

(ix) the Department of Transportation;

(x) the Department of Energy;

(xi) the Department of Health and Human Services;

(xii) the Department of Veterans Affairs;

(xiii) the Department of Homeland Security;

(xiv) the Office of Management and Budget;

(xv) the Environmental Protection Agency;

(xvi) the Small Business Administration;

(xvii) the Office of Personnel Management;

(xviii) the Social Security Administration;

(xix) the White House Office of Cabinet Affairs;

(xx) the White House Office of Intergovernmental Affairs and Public Engagement;

(xxi) the National Economic Council;

(xxii) the Domestic Policy Council;

(xxiii) the Office of Science and Technology Policy; and

(xxiv) other executive branch departments, agencies, and offices as the President may, from time to time, designate.

At the direction of the Co-Chairs, the Initiative may establish subgroups consisting exclusively of Initiative members or their designees under this section, as appropriate.

(c) Administration of the Initiative. The Department of Education shall provide funding and administrative support for the Initiative to the extent permitted by law and within existing appropriations. The Co-Chairs shall convene regular meetings of the Initiative, determine its agenda, and direct its work.

(d) Federal Agency Plans and Interagency Plan. Each executive department and agency designated by the Initiative shall prepare a plan (agency plan) for, and shall document, its efforts to improve the quality of life of Asian Americans and Pacific Islanders through increased participation in Federal programs in which Asian Americans and Pacific Islanders may be underserved. Where appropriate, this agency plan shall address, among other things, the agency's efforts to:

(i) identify Federal programs in which AAPIs may be underserved and improve the quality of life for AAPIs through increased participation in these programs;

(ii) identify ways to foster the recruitment, career development, and advancement of AAPIs in the Federal Government;

(iii) identify high-priority action items for which measurable progress may be achieved within 2 years to improve the health, environment, opportunity, and well-being of AAPIs, and implement those action items;

(iv) increase public-sector, private-sector, and community involvement in improving the health, environment, opportunity, and well-being of AAPIs;

(v) foster evidence-based research, data-collection, and analysis on AAPI populations and subpopulations, including research and data on public health, environment, education, housing, employment, and other economic indicators of AAPI community well-being; and

(vi) solicit public input from AAPI communities on ways to increase and improve opportunities for public participation in Federal programs considering a number of factors, including language barriers.

Each agency, in its plan, shall provide appropriate measurable objectives and, after the first year, shall provide for the assessment of that agency's performance on the goals set in the previous year's plan. Each agency plan shall be submitted to the Co-Chairs by a date to be established by the Co-Chairs. The Co-Chairs shall review the agency plans and develop for submission to the President a Federal interagency plan to improve the quality of life of AAPIs through increased participation in Federal programs in which such persons may be underserved. Actions described in the Federal interagency plan shall address improving access by AAPIs to Federal programs and fostering advances in relevant research and data.

Sec. 4. General Provisions.

(a) This order supersedes Executive Order 13125 of June 7, 1999, and Executive Order 13339 of May 13, 2004.

(b) The heads of executive departments and agencies shall assist and provide information to the Commission, consistent with applicable law, as may be necessary to carry out the functions of the Commission. Each executive department and agency shall bear its own expenses of participating in the Commission.

(c) Nothing in this order shall be construed to impair or otherwise affect:

(i) authority granted by law to an executive department, agency, or the head thereof; or

(ii) functions of the Director of the Office of Management and Budget relating to budgetary, administrative, or legislative proposals.

(d) This order shall be implemented consistent with applicable law and subject to the availability of appropriations.

(e) For purposes of this order, the term “Asian American and Pacific Islander” includes persons within the jurisdiction of the United States having ancestry of any of the original peoples of East Asia, Southeast Asia, or South Asia, or any of the aboriginal, indigenous, or native peoples of Hawaii and other Pacific Islands.

(f) This order is not intended to, and does not, create any right or benefit, substantive or procedural, enforceable at law or in equity by any party against the United States, its departments, agencies, or entities, its officers, employees, or agents, or any other person.

THE WHITE HOUSE,

October 14, 2009.

[FR Doc. E9-25268

Filed 10-16-09; 11:15 am]

Billing code 3195-W9-P